POSTAL SERVICE

Privacy Act of 1974; System of Records

AGENCY: Postal Service®.

ACTION: Notice of a modified system of records.

SUMMARY: The United States Postal Service® (USPS®) is proposing to modify one General Privacy Act System of Records (SOR) to support a resilient, modern, and flexible Fleet Management Information System (FMIS) for the USPS fleet. An Integrated Fleet Management (IFM) solution, that includes both Telematics system technology and a Commercial Off-The-Shelf (COTS) FMIS, will improve the effectiveness and efficiency of USPS Fleet Management capabilities to better meet future challenges and needs, by providing real time vehicle maintenance and operational data to fleet managers. Telematics uses onboard vehicle technologies, including instruments and sensors, to track and combine maintenance and operational data, that is subsequently transmitted to a central database for fleet management purposes.

DATES: These revisions will become effective without further notice on November 18, 2022, unless responses to comments received on or before that date, result in a contrary determination.

ADDRESSES: Comments may be submitted via email to the Privacy and Records Management Office, United States Postal Service Headquarters (privacy@usps.gov). To facilitate public inspection, arrangements to view copies of any written comments received will be made upon request.

FOR FURTHER INFORMATION CONTACT: Janine Castorina, Chief Privacy and Records Management Officer, Privacy and Records Management Office, 202-268-3069 or privacy@usps.gov.

SUPPLEMENTARY INFORMATION: This notice is in accordance with the Privacy Act requirement that agencies publish their systems of records in the Federal Register when there is a revision, change, or addition, or when the agency establishes a new system of records. The Postal Service is proposing revisions to an existing system of records (SOR) to support the implementation of the Integrated Fleet Management (IFM) solution within the Fleet Management Information System (FMIS).

Telematics devices will be installed on Postal owned vehicles to monitor vehicle health, calculate vehicle utilization and report vehicle location. Additionally, data gathered from Telematics will inform drivers of safety warnings and provide fuel savings through improved safety measures by highlighting vehicle operational efficiencies through improved vehicle operational performance and usage.

Vehicle health data will be provided to the Fleet Management group, so that they can proactively maintain vehicles. A Telematics device plugs into a vehicle's data port (OBDII and OBDI) and provides near real-time information on the operating condition of the vehicle. Examples include mileage, location, acceleration/deceleration, battery condition, fluid levels and tire pressure monitoring if applicable. These devices can replace the need for manually reported information and allow Vehicle Maintenance Facility (VMF) employees to monitor the condition of vehicles in near real-time. This will enable the Postal Service to move from planned/reactive maintenance to predictive/proactive maintenance.

Telematics has been identified as a solution for a variety of current and future opportunities within the vehicle fleet, with functionality that includes utilization reporting, along with tracking of vehicle maintenance, repair, safety and security. The FMIS will provide multiple indicators about key fleet needs and systems under one central program including maintenance and work-order management, vehicle accident history, invoice payment and tracking, vehicle assignment and location information, and many other features working in tandem with the Telematics vehicle data.

I. Background

The Postal Service is proposing modifications to SOR 500.100 Carrier and Vehicle Operator Records, to support the implementation of the new Integrated Fleet Management (IFM) solution within the Fleet Management Information System (FMIS). The Postal Service is seeking to optimize the maintenance, utilization, and tracking of vehicle assets throughout their lifecycle, and reduce operational costs for its fleet. The installation and operation of approximately 287,000 Telematics devices, as well as the acquisition and implementation of a dedicated FMIS aligns with the USPS Delivering for America 10-year plan.

Telematics devices will be placed on all Postal-owned vehicles and trailers over a ten-year period. The FMIS will include all Postal-owned vehicles and trailers and can also be used to improve tracking capabilities for leased vehicles and trailers. Telematic devices will not be installed onto leased, rented or personally owned vehicles (POV). However, when the use of leased, rented, or personally owned vehicles (POV) are replaced by the use of Postal owned fleet vehicles, these USPS vehicles will receive Telematics devices and be managed via the new FMIS.

The acquisition of the FMIS solution addresses an immediate need to implement new vehicle technologies for our current fleet of all Delivery, and Non-Mail Hauling vehicles. In addition, the acquisition of Next Generation Delivery Vehicles (NGDV) will include the installation of telematics units prior to delivery to the USPS.

II. Rationale for Changes to USPS Privacy Act Systems of Records

The Postal Service is proposing modifications to USPS SOR 500.100 Carrier and Vehicle Operator Records as described in the summary of changes below.

Summary of Changes:

• Added two new Purposes—Numbers 8 and 9.

• Added two new Categories of Individuals—Numbers 4 and 5.

• Added two new Categories of Records—Numbers 5 and 6.

• Added one new Retention period—Number 8.

III. Description of the Modified System of Records

Pursuant to 5 U.S.C. 552a(e)(11), interested persons are invited to submit written data, views, or arguments on this proposal. A report of the proposed revisions to this SOR has been sent to Congress and to the Office of Management and Budget for their evaluations. The Postal Service does not expect this modified system of records to have any adverse effect on individual privacy rights.

Accordingly, for the reasons stated above, USPS SOR 500.100 Carrier and Vehicle Operator Records, including proposed modifications, is provided below in its entirety.

SYSTEM NAME AND NUMBER:

USPS 500.100 Carrier and Vehicle Operator Records.

SECURITY CLASSIFICATION:

None.

SYSTEM LOCATION:

Headquarters; area and district facilities; processing and distribution centers; bulk mail centers; vehicle maintenance facilities; Post Offices; Integrated Business Solutions Services Centers; Accounting Service Centers; contractor or licensee locations; and facilities employing persons under a highway vehicle contract.

SYSTEM MANAGER(S):

Vice President, Retail & Post Office Operations, United States Postal Service, 475 L'Enfant Plaza SW, Washington, DC 20260.

Vice President, Delivery Operations, United States Postal Service, 475 L'Enfant Plaza SW, Washington, DC 20260.

Vice President, Transportation Strategy, United States Postal Service, 475 L'Enfant Plaza SW, Washington, DC 20260.

AUTHORITY FOR MAINTENANCE OF THE SYSTEM:

39 U.S.C. 401, 403, 404, and 1206.

PURPOSE(S) OF THE SYSTEM:

1. To reimburse carriers who use privately owned vehicles to transport the mail pursuant to a contractual agreement.

2. To evaluate delivery and collection operations and to administer these functions.

3. To provide local Post Office managers, supervisors, and transportation managers with information to assign routes and vehicles, and to adjust workload, schedules, and type of equipment operated.

4. To determine contract vehicle operator suitability for assignments requiring access to mail.

5. To serve as a basis for vehicle operator corrective action and presentation of safe driving awards.

6. To administer the USPS fleet card program used to purchase commercial fuel and oil, maintenance repair, polishing and washing, servicing, shuttling, and towing.

7. To administer a Bid Solicitation and Contract Management System to meet USPS transportation needs.

8. To evaluate vehicle operator's driving execution and improve vehicle efficiencies and safety performance from data collected from Telematics devices installed into USPS fleet vehicles.

9. To manage vehicle operator's status of state Drivers Licensing and Commercial Drivers Licensing expiration dates.

CATEGORIES OF INDIVIDUALS COVERED BY THE SYSTEM:

1. City Letter carriers.

2. Current and former USPS employees who operate or maintain USPS-owned or leased vehicles.

3. Contract highway vehicle operators.

4. Suppliers, including companies and individuals, under contract or agreement with the Postal Service to provide transportation services.

5. Vehicle Maintenance Facility employees.

CATEGORIES OF RECORDS IN THE SYSTEM:

1. Carrier information: Records related to letter carriers, including carrier's name, home address, Social Security Number, Employee Identification Number, postal assignment information, work contact information, finance number(s), duty location, pay location, route number and work schedule, and effective date of agreement for use of a privately owned vehicle to transport the mail, if applicable.

2. Vehicle operator information: Records of employees' operation or maintenance of USPS-owned or leased vehicles, including employee name, home address, Social Security Number, Employee Identification Number, age, postal assignment information, work contact information, finance number(s), duty location, pay location, work schedule, Fuel Purchase Fleet Card Personal Identification Number (PIN), and other records of vehicle operation and maintenance.

3. Highway vehicle contract employee information: Records related to contract employee name, Social Security Number, address and employment history, driver's license number, and contract assignment information.

4. Bid Solicitation and Contract Management System Records: Individual operator name, owner name, address, email address, phone number, SMS text, other contact information, Social Security Number, Taxpayer Identification Number (TIN), driver's license number and state, route number, trip schedules, Accounts Payable Excellence (APEX) system number, Standard Carrier Alpha Code (SCAC), contract number, bid solicitation information, financial statements, insurance information, company name, company address, company phone number, company email address, list of services provided, cost of services provided, geographic coverage, other information such as safe driving or accident records and other scanned in documents that accompany contract information, contract Terms and Conditions, lease agreements, payment information, and scanned images of hardcopy contract documentation.

5. Vehicle Maintenance Facility (VMF) Technicians, Clerks and VMF Supervisors: Records related to vehicle maintenance facility employees, including name, home address, Social Security Number, Employee Identification Number, postal assignment information, work contact information, finance number(s), duty location, pay location and work schedule.

6. Vehicle Maintenance Facility (VMF) Motor Vehicle Operators: Records related to vehicle maintenance facility employees, including name, home address, Social Security Number, Employee Identification Number, postal assignment information, work contact information, finance number(s), duty location, pay location, state Driver's License, Commercial Driver's License, and work schedule.

RECORD SOURCE CATEGORIES:

Employees; contractors or suppliers; carrier supervisors; route inspectors, state motor vehicle departments and VMF employees.

ROUTINE USES OF RECORDS MAINTAINED IN THE SYSTEM, INCLUDING CATEGORIES OF USERS AND PURPOSES OF SUCH USES:

Standard routine uses 1. through 9. apply.

POLICIES AND PRACTICES FOR STORAGE OF RECORDS:

Automated database, computer storage media, and paper.

POLICIES AND PRACTICES FOR RETRIEVAL OF RECORDS:

By name, Social Security Number, Taxpayer Identification Number (TIN), Employee Identification Number, pay location, Postal Service facility name, route number, vehicle number, or Fuel Purchase Fleet Card Personal Identification Number (PIN), contract number, Accounts Payable Excellence (APEX) System Number, and Standard Carrier Alpha Code (SCAC).

POLICIES AND PRACTICES FOR RETENTION AND DISPOSAL OF RECORDS:

1. Route inspection records and minor adjustment worksheets are retained 2 years where inspections or minor adjustments are made annually or more frequently. Where inspections are made less than annually, records are retained until a new inspection or minor adjustment, and an additional 2 years thereafter.

2. Statistical engineering records are retained 5 years and may be retained further on a year-to-year basis.

3. Agreements for use of a privately owned vehicle are retained 2 years. Post office copies of payment authorizations are retained 90 days. Vehicle records are maintained for the life of the vehicle.

4. Records of employees who operate or maintain USPS vehicles are retained 4 years.

5. Records of highway vehicle contract employees are retained 1 year after contract expiration or contract employee termination.

6. Records pertaining to the USPS fuel fleet card purchase program are retained for 10 years.

7. Records stored within the Bid Solicitation and Contract Management System are retained for six (6) years after the end of the fiscal year in which the contract record become inactive.

8. Telematics vehicle data records that contain Carrier and vehicle operator information will be maintained for 20 years after the end of the calendar year in which the individual vehicle is disposed of.

Records existing on paper are destroyed by burning, pulping, or shredding. Records existing on computer storage media are destroyed according to the applicable USPS media sanitization practice.

ADMINISTRATIVE, TECHNICAL, AND PHYSICAL SAFEGUARDS:

Paper records, computers, and computer storage media are located in controlled-access areas under supervision of program personnel. Access to these areas is limited to authorized personnel, who must be identified with a badge.

Access to records is limited to individuals whose official duties require such access. Contractors and licensees are subject to contract controls and unannounced on-site audits and inspections.

Computers are protected by mechanical locks, card key systems, or other physical access control methods. The use of computer systems is regulated with installed security software, computer logon identifications, and operating system controls including access controls, terminal and transaction logging, and file management software.

RECORD ACCESS PROCEDURES:

Requests for access must be made in accordance with the Notification Procedure above and USPS Privacy Act regulations regarding access to records and verification of identity under 39 CFR 266.5.

CONTESTING RECORD PROCEDURES:

See Notification Procedures below and Record Access Procedures above.

NOTIFICATION PROCEDURES:

Current and former employees, and highway vehicle contract employees, wanting to know if information about them is maintained in this system of records must address inquiries to the facility head where currently or last employed. Requests must include full name, Social Security Number or Employee Identification Number, and, where applicable, the route number and dates of any related agreements or contracts.

EXEMPTIONS PROMULGATED FOR THE SYSTEM:

None.

HISTORY:

July 25, 2022, 87 FR 44157; May 15, 2020, 85 FR 29492; June 27, 2012, 77 FR 38342.

* * * * *

Sarah Sullivan,
Attorney, Ethics & Legal Compliance.

[FR Doc. 2022-22371 Filed 10-18-22; 8:45 am]

BILLING CODE 7710-12-P